DEPARTMENT OF COMMERCE

National Oceanic and Atmospheric Administration

[RTID 0648-XF318]

Mid-Atlantic Fishery Management Council (MAFMC); Public Meeting

AGENCY: National Marine Fisheries Service (NMFS), National Oceanic and Atmospheric Administration (NOAA), Commerce.

ACTION: Notice of public hearings and request for comment.

SUMMARY: The Mid-Atlantic Fishery Management Council will hold five public hearings (one in-person, four webinars) and accept written comments regarding an action to revise Essential Fish Habitat designations.

DATES: The hearings will be held between Tuesday, December 2, 2025 and Tuesday, February 3, 2026. Written comments must be received by Wednesday, February 11, 2026. See SUPPLEMENTARY INFORMATION for details, including the dates and times for all hearings.

ADDRESSES:

Council address: Mid-Atlantic Fishery Management Council, 800 N. State Street, Suite 201, Dover, DE 19901; telephone: (302) 674-2331; https://www.mafmc.org.

Written comments may be submitted to:

• Email to: jcoakley@mafmc.org (use subject “EFH Amendment”).

• Via webform at: https://www.mafmc.org/comments/efh-amendment.

• Mail to: Chris Moore, Ph.D., Executive Director, Mid-Atlantic Fishery Management Council, 800 North State Street, Suite 201, Dover, DE 19901. Mark the outside of the envelope “EFH Amendment.”

FOR FURTHER INFORMATION CONTACT: Christopher M. Moore, Ph.D., Executive Director, Mid-Atlantic Fishery Management Council, telephone: (302) 526-5255.

SUPPLEMENTARY INFORMATION: The Council will hold five public hearings and accept written comments regarding an action to revise Essential Fish Habitat designations for 14 of the Council's managed fish species.

Hearing 1—Webinar: Tuesday, December 2, 2025. 6 p.m. until 8 p.m.

Hearing 2—Webinar: Tuesday, December 9, 2025. 6 p.m. until 8 p.m.

Hearing 3—Webinar: Tuesday, January 6, 2026. 6 p.m. until 8 p.m.

Hearing 4—Webinar: Tuesday, January 13, 2026. 6 p.m. until 8 p.m. and,

Hearing 5—In person: Tuesday, February 3, 2026. 6:30 p.m. until 9 p.m. Westin Crystal City, 1800 Richmond Highway, Arlington, VA 22202.

More specific details for the hearings can be found on the Council's website calendar or at https://www.mafmc.org/actions/omnibus-efh-amendment.

Written comments are accepted at the hearings or via the submission methods described above until Wednesday, February 11, 2026.

The meetings are physically accessible to people with disabilities. Requests for sign language interpretation or other auxiliary aids should be directed to Shelley Spedden, (302) 526-5251 at least 5 days prior to the meeting date.

Authority: 16 U.S.C. 1801 et seq.

Dated: November 13, 2025.
Rey Israel Marquez,
Acting Deputy Director, Office of Sustainable Fisheries, National Marine Fisheries Service.

[FR Doc. 2025-20024 Filed 11-14-25; 8:45 am]

BILLING CODE 3510-22-P